DEPARTMENT OF HEALTH AND HUMAN SERVICES

National Institutes of Health

Proposed Collection; Comment Request: Solar Cell: A Mobile UV Manager for Smart Phones (NCI)

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Solar Cell: A Mobile UV Manager for Smart Phones (NCI). Type of Information Collection Request: New. Need and Use of Information Collection: The overall goal of the study is to design a smart phone application, Solar Cell, which uses smart phone technology to aid users in protecting their skin from damaging ultraviolet radiation (UV) in sunlight, a primary cause of skin cancer. The purpose of this part of the study is to produce, deploy, and evaluate the effectiveness of a state-of-the-art software application for smart phones (i.e., mobile application), “Solar Cell.” This software application supports decision-making related to sun protection and exposure by Americans to reduce the risk of developing skin cancer attributable to chronic and severe UV exposure and developing other cancers attributable to vitamin D deficiency. The Solar Cell mobile smart phone application combines personal and behavior data with geo-spatial data (i.e., UV Index forecast, time, and location) and delivers actionable sun protection advice to reduce risk of skin cancer. Frequency of Response: Once. Affected Public: Individuals. Type of Respondents: Adults (18 and over) from the U.S. population who own Android smart phones. The annual reporting burden is estimated at 673 (see Table below). There are no Capital Costs, Operating Costs, and/or Maintenance Costs to report.

A.12-1—Estimates of Annual Burden Hours
Type of respondents | Instrument | Number of respondents | Frequency of response | Average time per response (minutes/hour) | Annual burden hours
Adults | Screener (Appendix G) | 1,875 | 1 | 15/60 (0.25) | 469
| Pre-test (Appendix A) | 245 | 1 | 20/60 (0.33) | 82
| Post-test (Appendix B) | 184 | 1 | 40/60 (0.66) | 123
Totals |  | 2,304 |  |  | 673

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Patricia Weber, DrPH, Program Director, NCI/NIH, SBIR Development Center, 6116 Executive Blvd., Suite 402, Rockville, MD 20852 or call non-toll-free number (301) 594-8106 or email your request, including your address to: weberpa@mail.nih.gov.

Comments Due Date: Comments regarding this information collection are best assured of having their full effect if received within 60 days of the date of this publication.

Dated: January 11, 2012.
Vivian Horovitch-Kelley,
NCI Project Clearance Liaison, National Institutes of Health.

[FR Doc. 2012-872 Filed 1-18-12; 8:45 am]

BILLING CODE 4140-01-P